DEPARTMENT OF JUSTICE

Notice of Lodging of Proposed Consent Decree Under the Clean Air Act

On January 7, 2020, the Department of Justice lodged a proposed Consent Decree with the District Court of the Southern District of New York in a lawsuit entitled United States v. Dover Greens, LLC, Civil Action No. 20-124.

In this action the United States seeks, as provided under the Clean Air Act (“CAA”) and EPA's National Emissions Standards for Asbestos (“Asbestos NESHAP”), civil penalties and injunctive relief from Dover Greens in connection with its renovation of the former Harlem Valley Psychiatric Center in Wingdale, New York. The proposed Consent Decree resolves the United States' claims and requires Dover Greens to pay $575,000 and imposes injunctive relief.

The publication of this notice opens the public comment on the proposed Consent Decree. Comments should be addressed to the Assistant Attorney General, Environment and Natural Resources Division, and should refer to United States v. Dover Greens, LLC, Civil Action No. 20-124, D.J. Ref. 90-5-2-11427. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.usdoj.gov/enrd/Consent_Decrees.html. We will provide a paper copy of the Consent Decree upon written request and payment of reproduction costs. Please email your request and payment to: Consent Decree Library, U.S. DOJ-ENRD, P.O. Box 7611, Washington, DC 20044-7611.

Please enclose a check or money order for $128.50 (25 cents per page reproduction cost) payable to the United States Treasury.

Henry Friedman,
Assistant Section Chief, Environmental Enforcement Section, Environment and Natural Resources Division.

[FR Doc. 2020-00265 Filed 1-10-20; 8:45 am]

BILLING CODE 4410-15-P